DEPARTMENT OF VETERANS AFFAIRS

[OMB Control No. 2900-New]

Agency Information Collection: Emergency Submission for OMB Review; Comment Request

AGENCY: Veterans Benefits Administration, Department of Veterans Affairs.

ACTION: Notice.

SUMMARY: In compliance with the Paperwork Reduction Act (PRA) of 1995 (44 U.S.C., 3501-3521), this notice announces that the United States Department of Veterans Affairs (VA), has submitted to the Office of Management and Budget (OMB) the following emergency proposal for the collection of information under the provisions of the Paperwork Reduction Act (44 U.S.C. 3507(j)(1)). The reason for the emergency clearance is to continue obtaining certification from State approving agency and employees of VA certifying that they do not own any interest in a proprietary profit school. Disruption of the collection of information will harm VBA's efforts to carry out its mission. OMB has been requested to act on this emergency clearance request by February 25, 2005.

DATES: Comments must be submitted on or before February 22, 2005.

For Further Information or a Copy of the Submission Contact: Denise McLamb, Records Management Service (005E3), Department of Veterans Affairs, 810 Vermont Avenue, NW., Washington, DC 20420, (202) 273-8030, FAX (202) 273-5981 or e-mail: denise.mclamb@mail.va.gov. Please refer to OMB Control No. 2900—New.

Send comments and recommendations concerning any aspect of the information collection to VA's OMB Desk Officer, OMB Human Resources and Housing Branch, New Executive Office Building, Room 10235, Washington, DC 20503 (202) 395-7316 or FAX (202) 395-6974. Please refer to OMB Control No. 2900—New.

SUPPLEMENTARY INFORMATION: Title: Conflicting Interests Certification for Proprietary Schools, VA form 22-1919.

OMB Control Number: 2900-New.

Type of Review: Existing collection in use without an OMB control number.

Abstract: VA pays education benefits to veterans and other eligible person pursuing approved programs of education. 38 U.S.C. 3683 prohibits employees of VA and State approving agency enrolled in a proprietary profit school from owning any interest in the school.

Veterans or eligible person who is an official authorized to sign certificates of enrollment or verification/certifications of attendance, an owner or an officer are prohibited from receiving educational assistance based on their enrollment in any proprietary school. The information contained on VA Form 22-1919 completed by proprietary school officials certifying that the institution and enrollees do not have any conflict of interest.

Affected Public: Individuals or households.

Estimated Total Annual Burden: 213,137 hours.

Estimated Average Burden Per Respondent: 23 minutes.

Frequency of Response: On occasion.

Estimated Number of Respondents: 557,040.

Dated: February 9, 2005.
By direction of the Secretary.
Loise Russell,
Director, Records Management Service.

[FR Doc. 05-2906 Filed 2-14-05; 8:45 am]

BILLING CODE 8320-01-P